DEPARTMENT OF JUSTICE

[OMB Number 1122-NEW]

Agency Information Collection Activities; Proposed eCollection eComments Requested

AGENCY: Office on Violence Against Women, Department of Justice.

ACTION: 60-Day notice.

SUMMARY: The Department of Justice, Office on Violence Against Women (OVW) will be submitting the following information collection request to the Office of Management and Budget (OMB) for review and approval in accordance with the Paperwork Reduction Act of 1995.

DATES: Comments are encouraged and will be accepted for 60 days until June 10, 2019.

FOR FURTHER INFORMATION CONTACT: Written comments and/or suggestion regarding the items contained in this notice, especially the estimated public burden and associated response time, should be directed to Cathy Poston, Office on Violence Against Women, at 202-514-5430 or Catherine.poston@usdoj.gov.

SUPPLEMENTARY INFORMATION: Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Survey of VOCA and VAWA STOP Administrators about Sexual Assault Medical Forensic Exam Payment Policies and Practices.

(3) Agency form number, if any, and the applicable component of the Department of Justice sponsoring the collection: 1122-XXXX. Sponsoring agency: U.S. Department of Justice, Office on Violence Against Women, which has supplied grant funds to the International Association of Forensic Nurses (IAFN) for a project of which the proposed survey is one component.

(4) Affected public who will be asked or required to respond, as well as a brief abstract: Established in 1995, OVW administers financial and technical assistance to communities across the country that are developing programs, policies, and practices that combat domestic/dating violence, sexual assault, and stalking. OVW administers both formula-based and discretionary grant programs, established under the Violence Against Women Act (VAWA) and subsequent legislation. Recipients of OVW funds work through a coordinated community response to support victims and hold perpetrators accountable.

The purpose of this collection is to find out how states/territories are paying for sexual assault medical forensic exams, meaning the funding sources they use for this purpose and the reimbursement procedures they follow. The information will be used by OVW and IAFN to determine what training and technical assistance (TTA) states need to ensure that sexual assault victim-patients are not charged for their exams. The affected public includes a maximum of 112 employees of states and territories who serve as Victims of Crime Act (VOCA) administrators and VAWA STOP administrators. VOCA administrators manage funds made available from the Crime Victims Fund (CVF) for victim assistance and victim compensation. STOP administrators manage the distribution and monitoring of OVW STOP Formula Program funds, which are distributed to states/territories to support law enforcement, prosecutors, victim services providers, and courts in responding to sexual and domestic violence. VOCA and STOP administrators must ensure that funds are subgranted, spent, and reported in compliance with all applicable regulations and requirements. In some states, the designated VOCA administrator and STOP administrator is the same individual.

Because VOCA and STOP administrators are responsible for how federal grant dollars for combatting violence against women are used, they typically have thorough knowledge of how sexual assault medical forensic exams—for which VAWA prohibits charging victims—are paid for in their states. Therefore, these administrators are a key source of information about state policies and procedures for reimbursing healthcare providers for exams, as well as the funding sources used for this purpose. Furthermore, VOCA and VAWA administrators may have considerable insight into which strategies are showing promise in their states, and what approaches have proved challenging.

(5) An estimate of the total number of respondents and the amount of time estimated for an average respondent to respond/reply: It is estimated that it will take the respondents approximately 30 minutes to complete this one-time survey, which will ask respondents about existing laws, policies, and procedures for paying for medical forensic exams, what aspects of the exam are paid for, the funding sources used to reimburse healthcare providers for exams, and what is and is not working with the current approach. The survey will be a mix of multiple-choice and narrative response questions.

(6) An estimate of the total public burden (in hours) associated with the collection: The total hour burden of this one-time data collection is 28 hours. While VOCA and STOP administrators will be invited to provide responses, only one response per state/territory is needed. 56 states/territories * 30-minute completion time = 1,680 minutes, or 28 hours.

If additional information is required contact: Melody Braswell, Deputy Clearance Officer, United States Department of Justice, Justice Management Division, Policy and Planning Staff, Two Constitution Square, 145 N Street NE, 3E.405B, Washington, DC 20530.

Dated: April 5, 2019.
Melody Braswell,
Department Clearance Officer, PRA, U.S. Department of Justice.

[FR Doc. 2019-07057 Filed 4-9-19; 8:45 am]

BILLING CODE 4410-FX-P